DEPARTMENT OF LABOR

Employment and Training Administration

[TA-W-52,656]

Agere Systems, Inc., Allentown, PA; Amended Certification Regarding Eligibility To Apply for Worker Adjustment Assistance

In accordance with section 223 of the Trade Act of 1974 (19 U.S.C. 2273) the Department of Labor issued a Certification of Eligibility to Apply for Worker Adjustment Assistance on October 7, 2003, applicable to workers of Agere Systems, Inc., Allentown, Pennsylvania. The notice will be published soon in the Federal Register.

At the request of the State agency, the Department reviewed the certification for workers of the subject firm. The workers produce integrated circuits and are not separately identifiable by product line.

New findings show that there was a previous certification, TA-W-39,449, issued on August 29, 2001, for workers of Agere Systems, Integrated Circuits Div., Allentown, Pennsylvania who were engaged in employment related to the production of integrated circuits. That certification expired August 29, 2003. To avoid an overlap in worker group coverage, this certification is being amended to change the impact date from August 15, 2002 to August 30, 2003, for workers of the subject firm.

The amended notice applicable to TA-W-52,656 is hereby issued as follows:

Workers of Agere Systems, Inc., Allentown, Pennsylvania, engaged in employment related to the production of integrated circuits, who became totally or partially separated from employment on or after August 30, 2003, through October 7, 2005, are eligible to apply for adjustment assistance under section 223 of the Trade Act of 1974.

Signed at Washington, DC, this 3rd day of November, 2003.
Linda G. Poole,
Certifying Officer, Division of Trade Adjustment Assistance.

[FR Doc. 03-29538 Filed 11-25-03; 8:45 am]

BILLING CODE 4510-30-P